DEPARTMENT OF COMMERCE

International Trade Administration

North American Free-Trade Agreement, Article 1904; Binational Panel Reviews: Notice of Termination of Panel Review

AGENCY: NAFTA Secretariat, United States Section, International Trade Administration, Department of Commerce.

ACTION: Notice of Termination of Panel Review of the Final Results of the first administrative review of the antidumping duty order on Citric Acid and Certain Citrate Salts from Canada, Secretariat File No. USA-CDA-2011-1904-03.

SUMMARY: Pursuant to the negotiated settlement between the United States and Canadian industries, the panel review of the above-noted case is terminated as of August 2, 2011. No panel has been appointed to review this panel.

FOR FURTHER INFORMATION CONTACT: Ellen Bohon, United States Secretary, NAFTA Secretariat, Suite 2061, 14th and Constitution Avenue, NW., Washington, DC 20230, (202) 482-5438.

SUPPLEMENTARY INFORMATION: Chapter 19 of the North American Free-Trade Agreement (“Agreement”) established a mechanism to replace domestic judicial review of final determinations in antidumping and countervailing duty cases involving imports from a NAFTA country with review by independent binational panels. When a Request for Panel Review is filed, a panel is established to act in place of national courts to review expeditiously the final determination to determine whether it conforms to the antidumping or countervailing duty law of the country that made the determination.

Under Article 1904 of the Agreement, which came into force on January 1, 1994, the Government of the United States, the Government of Canada, and the Government of Mexico established Rules of Procedure for Article 1904 Binational Panel Reviews (“Rules”). These Rules were published in the Federal Register on February 23, 1994 (59 FR 8686). The panel review in this matter was requested Pursuant to these Rules and terminated in accordance with the settlement agreement.

Dated: August 3, 2011
Ellen Bohon,
United States Secretary, NAFTA Secretariat.

[FR Doc. 2011-20030 Filed 8-5-11; 8:45 am]

BILLING CODE 3510-GT-P